DEPARTMENT OF HOMELAND SECURITY

Federal Emergency Management Agency

[Docket ID: FEMA-0022-0045; OMB No. 1660-0098]

Agency Information Collection Activities: Proposed Collection; Comment Request; FEMA Citizen Responder Programs Registration

AGENCY: Federal Emergency Management Agency, Department of Homeland Security.

ACTION: 60 Day notice of revision and request for comments.

SUMMARY: The Federal Emergency Management Agency (FEMA), as part of its continuing effort to reduce paperwork and respondent burden, invites the general public to take this opportunity to comment on an extension, with change, of a currently approved information collection. In accordance with the Paperwork Reduction Act of 1995, this notice seeks comments concerning FEMA's Citizen Responder programs registration. These programs include Community Emergency Response Teams (CERTs) and Citizen Corps Councils.

DATES: Comments must be submitted on or before February 3, 2023.

ADDRESSES: To avoid duplicate submissions to the docket, please submit comments at www.regulations.gov under Docket ID FEMA-0022-0045. Follow the instructions for submitting comments.

All submissions received must include the agency name and Docket ID. Regardless of the method used for submitting comments or material, all submissions will be posted, without change, to the Federal eRulemaking Portal at https://www.regulations.gov, and will include any personal information you provide. Therefore, submitting this information makes it public. You may wish to read the Privacy and Security Notice that is available via a link on the homepage of www.regulations.gov.

FOR FURTHER INFORMATION CONTACT: Andy Burrows, Branch Chief, Preparedness Behavior Change Branch, Individual and Community Preparedness Division, FEMA, 400 C Street SW, Washington, DC 20024, 202-716-0527, andrew.burrows@fema.dhs.gov. You may contact the Information Management Division for copies of the proposed collection of information at email address: FEMA-Information-Collections-Management@fema.dhs.gov.

SUPPLEMENTARY INFORMATION: The Post Katrina Management Reform Act (PKEMRA), codified within Title 6 of the U.S. Code, requires the FEMA Administrator to provide Federal leadership necessary to prepare for, protect against, respond to, recover from or mitigate against a natural disaster, act of terrorism, or other man-made disaster. This responsibility includes planning, training, and building the emergency management profession by building a comprehensive incident management system with Federal, state, and local government personnel, agencies and authorities, and helping the emergency response providers to effectively respond. See 6 U.S.C. 314. As part of this responsibility to help and support emergency response providers, FEMA supports efforts to train and assist in organizing citizen responder programs. With Executive Order 13254, Establishing the USA Freedom Corps (67 FR 4869, Feb. 1, 2022) Citizen Corps was launched as a Presidential Initiative on January 29, 2002, with a mission to harness the power of every individual through education, training, and volunteer service to make communities safer, stronger, and better prepared for the threats of terrorism, crime, public health issues, and disasters of all kinds.

Another FEMA Citizen Responder program, the CERT was originally developed and implemented by the Los Angeles City Fire Department in 1985. Since 1993 when this training was made available nationally by FEMA, communities in 28 states and Puerto Rico have conducted CERT training. FEMA supports CERT by conducting or sponsoring Train-the-Trainer and Program Manager courses for members of the fire, medical and emergency management community.

To fulfill its mission, FEMA's Individual and Community Preparedness Division (ICPD) will collect information from Citizen Corps Councils and CERT Programs through the Citizen Responder online registration form. The Citizen Responder registration form will allow FEMA as well as state, local, Tribal and territorial personnel to evaluate whether prospective Councils/CERTs have the support of the appropriate government officials in their area, ensure a dedicated coordinator is assigned to the program, and provide an efficient way to track the effectiveness of the nationwide network of Councils and CERT programs.

Collection of Information

Title: FEMA Citizen Responder Programs Registration.

Type of Information Collection: Extension, with change, of a currently approved information collection.

OMB Number: 1660-0098.

FEMA Forms: FEMA Form FF-008-FY-22-129 (formerly 008-0-25), Citizen Corps Council—CERT Registration.

Abstract: The FEMA Citizen Responder registration form will allow FEMA as well as state, local, Tribal and territorial personnel to evaluate whether prospective Councils/CERTs have the support of the appropriate government officials in their area, ensure a dedicated coordinator is assigned to the program, and provide an efficient way to track the effectiveness of the nationwide network of Councils and CERT programs.

Affected Public: Individuals and Households.

Estimated Number of Respondents: 4,000.

Estimated Number of Responses: 4,000.

Estimated Total Annual Burden Hours: 1,000.

Estimated Total Annual Respondent Cost: $40,610.

Estimated Respondents' Operation and Maintenance Costs: $0.

Estimated Respondents' Capital and Start-Up Costs: $0.

Estimated Total Annual Cost to the Federal Government: $12,777.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25703 Filed 12-2-22; 8:45 am]

BILLING CODE 9111-27-P